DEPARTMENT OF THE INTERIOR

Bureau of Indian Affairs

43 CFR Part 17

Bureau of Indian Education: National Policy Memorandum on Section 504 of the Rehabilitation Act of 1973 (NPM-EDUC-33)

AGENCY: Bureau of Indian Education, Interior.

ACTION: Notification of Tribal consultation.

SUMMARY: This document announces that the Bureau of Indian Education (BIE) will be conducting consultation meetings by webinar to obtain oral and written comments on the BIE National Policy Memorandum (NPM-EDUC-33), which is an interim policy, applicable to BIE-operated elementary and secondary schools and dormitories, on the nondiscrimination prohibitions based on disability found in Section 504 of the Rehabilitation Act of 1973, as amended, and the Department's implementing regulations. The Department will use comments received during consultation to inform its development of a final Section 504 policy for BIE-operated elementary and secondary schools and dormitories.

DATES: Written comments must be received on or before November 27, 2020, 11:59 p.m. EST. See SUPPLEMENTARY INFORMATION section for scheduled dates and links to register for each webinar meeting.

ADDRESSES: Mail or hand-deliver written comments to Tracie Atkins, Bureau of Indian Education, 1001 Indian School Road, Albuquerque, NM 87104. Submissions by facsimile should be sent to (505) 563-3043. Written comments can also be emailed to tracie.atkins@bie.edu.

FOR FURTHER INFORMATION CONTACT: Tracie Atkins, BIE 504 Program Coordinator, (202) 893-3553 or tracie.atkins@bie.edu.

SUPPLEMENTARY INFORMATION: The purpose of the consultation is to provide Indian Tribes, school boards, parents, Indian organizations and other interested parties with an opportunity to comment on the BIE National Policy Memorandum (NPM-EDUC-33), which is an interim policy, applicable to BIE-operated elementary and secondary schools and dormitories, on the nondiscrimination prohibitions based on disability found in Section 504 of the Rehabilitation Act of 1973, as amended, 29 U.S.C. 794 (Section 504) and the Department's implementing regulations at 43 CFR 17.501-17.570 (Subpart E). NPM-EDUC-33 explains how

BIE-operated schools will implement the Subpart E regulations and outlines ways in which BIE will be able to identify, assess, and provide eligible students with disabilities appropriate educational services within the meaning of Section 504.

The Department will use comments received during consultation to inform its development of a final Section 504 policy for BIE-operated elementary and secondary schools and dormitories. The proposed consultation topics are: (1) Qualifying for Section 504 protections, (2) Program Accessibility, (3) Identification of Students with Disabilities, (4) Development and contents of a Section 504 Individualized Accommodation Plan (IAP), (5) Section 504 and Discipline: Manifestation Determination, (6) and Compliance Procedures: Filing a complaint.

BIE will conduct two consultation sessions through telephonic webinar with a Tribal representative or their designee, and school boards, parents, teachers, and other public stakeholders. The following table lists dates and consultation teleconference webinar registration information. After registering, you will receive a confirmation email containing information about joining the meeting.

For | Dates | Time (EDT) | To register for webinar
Tribes | November 9 and 10, 2020 | 4 p.m.-5 p.m | Register in advance for this meeting: https://us02web.zoom.us/meeting/register/tZcvc-6vrjwpHdOA4NqtOhjmn4Wrcp9L8swF.
Public | November 9 and 10, 2020 | 5 p.m.-6 p.m | Register in advance for this meeting: https://us02web.zoom.us/meeting/register/tZcvc-6vrjwpHdOA4NqtOhjmn4Wrcp9L8swF.

The Tribal consultation presentation and a copy of NPM-EDUC 33 can be found at https://www.bia.gov/sites/bia.gov/files/assets/public/raca/national_policy_memoranda/pdf/NPM-EDUC-33_Section-504_FINAL_Signed_IssueDate_508.pdf.

The BIE strongly recommends reviewing the NPM prior to attending a consultation session or submitting written comments in order to provide meaningful feedback.

Public Comment Availability

Comments, including names, street addresses, and other contact information of respondents, will be available for public review at the address listed under the ADDRESSES section during regular business hours (8 a.m. to 4:30 p.m. EST), Monday through Friday, except Federal holidays. Individual respondents may request confidentiality. If you wish us to withhold your name, street address, and other contact information (such as fax or phone number) from public review or from disclosure under the Freedom of Information Act, you must state this prominently at the beginning of your comment. We will honor your request to the extent allowable by law. We will make available for public inspection in their entirety all submissions from organizations or businesses, and from individuals identifying themselves as representatives or officials of organizations or businesses.

Authority

This document is published in accordance with the authority delegated by the Secretary of the Interior to the Assistant Secretary—Indian Affairs by 209 DM 8.1.

Tara Sweeney,
Assistant Secretary—Indian Affairs.

[FR Doc. 2020-21972 Filed 10-8-20; 8:45 am]

BILLING CODE 4337-15-P